FEDERAL FINANCIAL INSTITUTIONS EXAMINATION COUNCIL

[Docket No. AS23-06]

Appraisal Subcommittee; Notice of Meeting

AGENCY: Appraisal Subcommittee of the Federal Financial Institutions Examination Council.

ACTION: Notice of special meeting.

Description: In accordance with section 1104(b) of title XI of the Financial Institutions Reform, Recovery, and Enforcement Act of 1989, as amended, notice is hereby given that the Appraisal Subcommittee (ASC) met for a special meeting on this date.

Location: Virtual meeting via Webex.

Date: May 3, 2023.

Time: 10:55 a.m. ET.

Action and Discussion Item

Personnel Matter

The ASC convened a special meeting to discuss and take a vote on a personnel matter. The vote passed 6-0 to accept an ASC staff recommendation on the personnel matter. The Federal Reserve Board member and alternate were not available for the vote.

James R. Park,
Executive Director.

[FR Doc. 2023-10687 Filed 5-18-23; 8:45 am]

BILLING CODE 6700-01-P